NUCLEAR REGULATORY COMMISSION

[Docket Nos. 50-373 and 50-374; NRC-2011-0051]

Exelon Generation Company, LLC; Notice of Withdrawal of Application for Amendment to Facility Operating License; Correction

AGENCY: Nuclear Regulatory Commission.

ACTION: Notice of Withdrawal; Correction.

SUMMARY: This document corrects a notice appearing in the Federal Register on March 4, 2011 (76 FR 12140), which informed the public that the NRC had granted Exelon's request to withdraw an application for amendment. This action is necessary to correct the description of the withdrawn amendment.

FOR FURTHER INFORMATION CONTACT: Eva A. Brown, Office of Nuclear Reactor Regulation, U.S. Nuclear Regulatory Commission, Washington, DC 20555-0001; telephone (301) 415-2315, e-mail: Eva.Brown@nrc.gov.

SUPPLEMENTARY INFORMATION: On page 12140, appearing near the bottom of the first column, the first sentence of the second paragraph of the Notice should read:

The proposed amendment would revise Technical Specification 3.1.7, “Standby Liquid Control (SLC) System,” to extend the completion time associated with Condition B from 8 hours to 72 hours.

Dated in Rockville, Maryland, this 7th day of March 2011.
For the Nuclear Regulatory Commission.
Eva A. Brown,
Senior Project Manager, Plant Licensing Branch III-2, Division of Operating Reactor Licensing, Office of Nuclear Reactor Regulation.

[FR Doc. 2011-5756 Filed 3-11-11; 8:45 am]

BILLING CODE 7590-01-P